DEPARTMENT OF JUSTICE

Office of Justice Programs

[OJP (NIJ) Docket No. 1680]

Offender Tracking Systems Market Survey

AGENCY: National Institute of Justice, DOJ.

ACTION: Notice of Request for Information.

SUMMARY: The National Institute of Justice (NIJ) is soliciting information in relation to the upcoming National Criminal Justice Research, Test, and Evaluation Center (NIJ RT&E Center) “Market Survey of Location-based Offender Tracking Technologies.” This market survey will be published by NIJ to assist prospective agencies in their assessment of relevant information on commercially available offender tracking systems (OTS) marketed for use by the criminal justice community, prior to making purchasing decisions. The NIJ RT&E Center invites comments with regard to the market survey, including which categories of information are appropriate for comparison. Vendors of such technology are also invited to provide promotional material (e.g., slick sheet) and images of the technology (e.g., a print-quality photograph).

DATES: Responses to this request will be accepted through 11:59 p.m. Eastern Time on February 25, 2015.

ADDRESSES: Responses to this request may be submitted electronically in the body of or as an attachment to an email sent to administrator@nijrtecenter.org with the recommended subject line “OTS Federal Register Response”. Questions and responses may also be sent by mail (please allow additional time for processing) to the address: National Criminal Justice Research, Test and Evaluation Center, ATTN: OTS Federal Register Response, Johns Hopkins University Applied Physics Laboratory, 11100 Johns Hopkins Road, Mail Stop 17N444, Laurel, MD 20723-6099.

FOR FURTHER INFORMATION CONTACT: For more information on this request for information contact Steven Taylor (NIJ RT&E Center) at (443) 778-9348 or administrator@nijrtecenter.org. For more information on the NIJ RT&E Center, visit http://nij.gov/funding/awards/Pages/award-detail.aspx?award=2013-MU-CX-K111 and view the description or contact Jack Harne, by telephone at 202-616-2911 or by email at Jack.Harne@usdoj.gov. Please note that these are not toll-free telephone numbers.

SUPPLEMENTARY INFORMATION: Information Sought: The NIJ RT&E Center seeks input to its upcoming “Market Survey of Location-based Offender Tracking Technologies.” This technology, consisting of hardware and software component, is designed to determine and report at programmed intervals the geographic location at a particular time of an individual who is subject to criminal justice system supervision. Whether an agency faces a mandate to track domestic violence or sex offenders, has a need to more closely monitor higher risk offenders, or is looking for confinement alternatives for low-risk offenders, this technology can often be a practical tool for supervising and managing select individuals.

This market survey will be published by NIJ to assist prospective agencies in their assessment of relevant information on commercially available OTS marketed for use by the criminal justice community, prior to making purchasing decisions. Vendors who respond to this request for information are invited to provide general comments with regard to the market survey for the NIJ RT&E Center to consider, including which categories of information are appropriate for comparison, as well as promotional material (e.g., slick sheet) and images of the technology (e.g., a print-quality photograph).

The NIJ RT&E Center intends to include, at a minimum, the following categories of information for each vendor and OTS model, service, or product:

1. Vendor Information

a. Name

b. Years your company has been in business

2. Product Information

a. Types of equipment or products that are offered (e.g., new, used, refurbished, leased, etc.)

b. Name and model number (e.g., device, monitoring software application, home monitoring unit, etc.)

c. Multi-piece or one-piece configuration

d. Physical dimensions (height X width X depth, in inches) of device (with strap, and included battery) or component

e. Weight (in ounces) of device with strap and included battery

f. Depth to which device is waterproof (in feet)

g. Type of tracking (e.g., active, passive, or hybrid)

h. Location where system stores zone and schedule information (e.g., onboard or monitoring software application)

i. Location on the body where the device is worn

j. Battery discharge time (hours of continuous operation before needing a charge)

k. Battery shelf life (in months)

l. Battery recharge time (hours required to fully charge battery after complete discharge)

m. Battery replacement procedure and where it must be done (e.g., field or factory)

n. Availability of supplemental charger for emergency battery charging (e.g., hand crank, backup battery, solar, etc.)

o. Onboard memory storage (quantity of data that can be stored on device in number of files/alerts/days activity)

p. Frequencies on which the device components operate (cite FCC part number)

q. Type(s) of technology used to geo-locate the offender (e.g., GPS, WiFi, RF, cellular triangulation, etc.)

r. Mechanism by which data is transmitted to the monitoring software (e.g., cellular, WiFi, landline, etc.)

s. Auxiliary equipment (e.g., car chargers, emergency chargers, beacons, etc.)

t. Manufacturer suggested retail price, without optional features, accessories or service plans

u. Type and duration of warranty provided on the device(s) that you offer (e.g., what is covered in a standard warranty vs. what is covered in an optional or extended warranty)

v. Means and frequency of monitoring center and monitoring software application backup

w. Length of time data is retained in archives (in years)

x. Any additional information not covered above

3. Usability

a. Types of processes used to ensure usability of hardware and software products (e.g., requirements gathering, observation, task analysis, interaction design, usability testing, ergonomics, etc.)

b. Types of data gathered from the user community (e.g., interviews, observations during hands-on training, survey, satisfaction surveys, repeat customers, etc.) to evaluate your products, and how often it is collected

c. Types of user-group meetings and frequency of their occurrence

d. Types of embedded templates supported by software (e.g., new offender, alert types, etc.)

e. Hours of technology support and location (e.g., telephone or at agency)

f. Hours of operation of monitoring center

g. Hours and type of training provided (e.g., on-site, web-based, pre-recorded, play environment etc.)

h. Types of post-training help and tutorials available

4. Features and Functions

a. Maximum number of tracking devices that can be concurrently monitored by the monitoring/tracking software

b. Number of data points per minute at which data:

i. Is collected by the device

ii. Is reported to the monitoring software

c. Type of interoperability embedded in the design of the data and device output (e.g., other vendor software, other vendor devices, data standards with which the output is compliant, etc.)

d. Types of alerts (e.g., exclusion zone or schedule violations, strap tamper or bracelet removal, low battery, loss of signal, communication failure, etc.) and way they are differentiated (e.g., do all alerts come up “Alert” or “Cause + Alert”)

e. Types of communication alerts to offenders (e.g., light, vibration, two-way communication, etc.)

f. Single or multiple mechanisms for tamper detection of device or strap circumvention

g. Types of acknowledgement by offender of an alert (e.g., one-way/two-way communications for offender, telephone, etc.)

h. Ability to notify/alert victims of domestic violence

i. Types of mobile monitoring software applications to transmit alerts to personnel in the field

j. Types of analytical capabilities to check tracking (e.g., crime-scene correlation, offender congregation, time and duration differentiators, etc.)

k. Types of real-time monitoring features (e.g., monitored offender's location can be ascertained on demand)

l. Types of reports that are available (e.g., standard information examples, extent that reports are customizable, inclusion of maps, etc.)

m. Types of on-demand custom reports

n. Other unique features not covered above

5. Performance and Security

a. Average time to install and activate device (in minutes)

b. Range in performance of locational accuracy indoor and outdoor (in feet)

c. False positive (alert generated when it should not have been) and false negative (alert was not generated when it should have been) rates

d. Mean time to failure

e. Minimum data collection rate (e.g., once/minute)

f. Minimum number of data storage, in days, (e.g., seven, ten, or fourteen days)

g. Mean length of time from alert to notification

h. Security mechanisms against GPS or communication channel jamming, shielding, interception, or spoofing

i. Data protection mechanism while in transit and during storage (e.g., SSL, encryption, password strength, etc.)

j. Types of database change record maintenance practices for historical data

k. Mechanism for maintaining confidentiality of personally identifiable information about the individual being monitored

William J. Sabol,
Acting Director, Bureau of Justice Statistics and National Institute of Justice.

[FR Doc. 2015-01235 Filed 1-23-15; 8:45 am]

BILLING CODE 4410-18-P